DEPARTMENT OF THE INTERIOR

Bureau of Indian Affairs

[Docket No. BIA-2022-0005; OMB Control Number 1035-0003; 256A2100DD/AAKP300000/A0A501010.000000]

Agency Information Collection Activities; Application To Withdraw Tribal Funds From Trust Status

AGENCY: Bureau of Trust Funds Administration, Interior.

ACTION: Notice of information collection; request for comment.

SUMMARY: The Bureau of Trust Funds Administration (BTFA) is proposing to renew an information collection in accordance with the Paperwork Reduction Act of 1995.

DATES: Interested persons are invited to submit comments on or before November 12, 2025.

ADDRESSES: To submit comments, please visit https://www.regulations.gov/docket/BIA-2022-0005/document or use the search field on https://www.regulations.gov to find the “BIA-2022-0005” docket. Please follow the instructions on Regulations.gov for submitting a comment; and reference the “OMB Control Number 1035-0003” within your comment submission. You may also mail comments to Indian Affairs, RACA, 1001 Indian School Road NW, Suite 229, Albuquerque, NM 87104.

FOR FURTHER INFORMATION CONTACT: Steven Mullen, Information Collection Clearance Officer, Office of Regulatory Affairs and Collaborative Action—Indian Affairs, U.S. Department of the Interior, 1001 Indian School Road NW, Suite 229, Albuquerque, New Mexico 87104; comments@bia.gov; (202) 208-5403. Individuals in the United States who are deaf, deafblind, hard of hearing, or have a speech disability may dial 711 (TTY, TDD, or TeleBraille) to access telecommunications relay services. You may also view the ICR at https://www.reginfo.gov/public/Forward?SearchTarget=PRA&textfield=1035-0003.

SUPPLEMENTARY INFORMATION: In accordance with the Paperwork Reduction Act of 1995 (44 U.S.C. 3501) and 5 CFR 1320.8(d)(1), we provide the general public, and other Federal agencies, with an opportunity to comment on new, proposed, revised, and continuing collections of information. This helps us assess the impact of our information collection requirements and minimize the public's reporting burden. It also helps the public understand our information collection requirements and provide the requested data in the desired format.

As part of our continuing effort to reduce paperwork and respondent burdens, we invite the public and other Federal agencies to comment on new, proposed, revised, and continuing collections of information. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Indian Trust Fund Management Reform Act of 1994 (the Act), which is codified at 25 U.S.C. chapter 42, allows Indian Tribes on a voluntary basis to take their funds out of trust status within the Department of the Interior (and the Federal Government) in order to manage such funds on their own. The Act's implementing regulations describe the requirements for application for withdrawal. See 25 CFR 1200.13 “How does a Tribe apply to withdraw funds?”

The Act generally covers all tribal trust funds including judgment funds as well as some settlements funds, but excludes funds held in individual Indian money accounts and other trust funds. Both the Act and the regulations state that upon withdrawal of the funds, the Department of the Interior (and the Federal Government) have no further liability for such funds. Accompanying their application for withdrawal of trust funds, Tribes are required to submit a management plan for managing the funds being withdrawn to protect the funds once they are out of trust status. This information collection allows the BTFA to collect a Tribe's applications for withdrawal of funds held in trust by the Department of the Interior.

Title of Collection: Application to Withdraw Tribal Funds from Trust Status, 25 CFR part 1200.

Control Number: 1035-0003.

Form Number: None.

Type of Review: Extension of a currently approved collection.

Respondents/Affected Public: Tribal governments.

Total Estimated Number of Annual Respondents: One respondent, on average, every 3 years.

Total Estimated Number of Annual Responses: 1.

Estimated Completion Time per Response: 750 hours.

Total Estimated Number of Annual Burden Hours: 750.

Respondent's Obligation: Required to obtain or retain a benefit.

Frequency of Collection: One per Tribe per trust fund withdrawal application.

Total Estimated Annual Nonhour Burden Cost: None.

Authority

An agency may not conduct or sponsor and a person is not required to respond to a collection of information unless it displays a currently valid OMB control number. The authority for this action is the Paperwork Reduction Act of 1995 (44 U.S.C. 3501).

Janel Broderick,
Principal Deputy Assistant Secretary—Indian Affairs, Exercising the delegated authority of the Assistant Secretary—Indian Affairs.

[FR Doc. 2025-17655 Filed 9-11-25; 8:45 am]

BILLING CODE 4337-15-P